FEDERAL COMMUNICATIONS COMMISSION

[OMB 3060-1148; FR ID 84025]

Information Collection Being Reviewed by the Federal Communications Commission Under Delegated Authority

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before June 27, 2022. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-1148.

Title: Section 79.3, Audio Description of Video Programming.

Form Number: Not Applicable.

Type of Review: Extension of a currently approved collection.

Respondents: Business or other for-profit entities, Not for profit entities and Individuals or households.

Number of Respondents and Responses: 50 respondents, 54 responses.

Estimated Time per Response: 1-5 hours.

Frequency of Response: On occasion reporting requirement.

Total Annual Burden: 116 hours.

Total Annual Cost: $22,740.

Obligation To Respond: Required to obtain or retain benefits. The statutory authority for this collection is contained in 47 U.S.C. 151, 152, 154(i), 303, and 613.

Needs and Uses: Audio description is the insertion of audio narrated descriptions of a television program's key visual elements into natural pauses in the program's dialogue, thus making video programming more accessible to individuals who are blind or visually impaired. The information collection requirements consist of the following:

Petitions for exemption based on “economic burden” (47 CFR 79.3(d)). (1) Pursuant to 47 CFR 79.3(d), a video programming provider may petition the Commission for a full or partial exemption from the audio description requirements based upon a showing that the requirements would be economically burdensome. (2) Petitions for exemption must be filed with the Commission, placed on public notice, and subject to comment from the public.

(b) Non-form consumer complaints alleging violations of the audio description rules (47 CFR 79.3(e)). (1) Section 79.3(e) of the rules provides that a complaint alleging a violation of the audio description rules may be transmitted to the Commission by “any reasonable means,” and that each complaint must include: (i) The name and address of the complainant; (ii) the name and address of the broadcast station against whom the complaint is alleged and its call letters and network affiliation, or the name and address of the MVPD against whom the complaint is alleged and the name of the network that provides the programming that is the subject of the complaint; (iii) a statement of facts sufficient to show that the video programming distributor has violated or is violating the Commission's rules, and, if applicable, the date and time of the alleged violation; (iv) the specific relief or satisfaction sought by the complainant; (v) the complainant's preferred format or method of response to the complaint (such as letter, facsimile transmission, telephone (voice/TRS/TTY), internet email, or some other method that would best accommodate the complainant's disability); and (vi) a certification that the complainant attempted in good faith to resolve the dispute with the broadcast station or MVPD against whom the complaint is alleged. (2) After the Commission receives the complaint, the Commission notifies the video programming distributor (VPD) of the complaint, and the VPD generally has 30 days to reply.

Federal Communications Commission.
Marlene Dortch,
Secretary.

[FR Doc. 2022-09030 Filed 4-27-22; 8:45 am]

BILLING CODE 6712-01-P